DEPARTMENT OF LABOR

Office of the Secretary

Submission for OMB Review; Comment Request

October 17, 2003.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by contacting the Department of Labor. To obtain documentation, contact Darrin King on 202-693-4129 (this is not a toll-free number) or E-Mail: king.darrin@dol.gov.

Comments should be sent to Office of Information and Regulatory Affairs, Attn: OMB Desk Officer for the Mine Safety and Health Administration (MSHA), Office of Management and Budget, Room 10235, Washington, DC 20503 (202-395-7316/this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension of a currently approved collection.

Title: Main Fan Operation and Inspection.

OMB Number: 1219-0030.

Affected Public: Business or other for-profit.

Type of Response: Recordkeeping.

Frequency: Daily.

Number of Respondents: 7.

Number of Annual Responses: 3,465.

Estimated Time per Response: 30 minutes.

Total Burden Hours: 1,733.

Total Annualized Capital/Startup Costs: $0.

Total Annual Costs (operating/maintaining systems or purchasing services): $1,470.

Description: Title 30, CFR 57.22204, which is applicable only to specific underground mines that are categorized as gassy, requires main fans to have pressure-recording systems. Main fans are to be inspected daily while operating if persons are underground, and certification of the inspection is to be made by signature and date. These records are used by the mine operator and MSHA to maintain a constant surveillance on mine ventilation, and to ensure that unsafe conditions are identified early and corrected. Technical consultants may occasionally review the information when solving problems.

Agency: Mine Safety and Health Administration.

Type of Review: Extension of a currently approved collection.

Title: Daily Inspection of Surface Coal Mine; Certified Person; Reports of Inspection (Pertains to Surface Coal Mines).

OMB Number: 1219-0083.

Affected Public: Business or other for-profit.

Type of Response: Recordkeeping.

Frequency: Each shift.

Number of Respondents: 1,514.

Number of Annual Responses: 513,246.

Estimated Time per Response: 1.5 hours.

Total Burden Hours: 769,869.

Total Annualized Capital/Startup Costs: $0.

Total Annual Costs (operating/maintaining systems or purchasing services): $0.

Description: 30 CFR 77.1713 requires operators of surface coal mines and surface facilities to keep records of the results of mandatory examinations for hazardous conditions. Records consist of the nature and location of any hazardous condition found and the actions taken to abate the hazardous condition.

Agency: Mine Safety and Health Administration.

Type of Review: Extension of a currently approved collection.

Title: Explosive Materials and Blasting Units (pertains to metal and nonmetal underground mines deemed to be gassy).

OMB Number: 1219-0095.

Affected Public: Business or other for-profit.

Type of Response: Reporting.

Frequency: On occasion.

Number of Respondents: 2.

Number of Annual Responses: 2.

Estimated Time per Response: 1 hour.

Total Burden Hours: 2.

Total Annualized Capital/Startup Costs: $0.

Total Annual Costs (operating/maintaining systems or purchasing services): $0.

Description: In the absence of permissible explosives or blasting units having adequate blasting capacity for metal and nonmetal gassy mines, 30 CFR 57.22606(a) provides procedures by which mine operators shall notify MSHA of all non-approved explosive materials and blasting units to be used prior to their use in underground gassy metal and nonmetal mines. MSHA uses this information to determine that the explosives and procedures to be used are safe for blasting in a gassy underground mine.

Ira L. Mills,
Departmental Clearance Officer.

[FR Doc. 03-27352 Filed 10-29-03; 8:45 am]

BILLING CODE 4510-43-M